DEPARTMENT OF TRANSPORTATION

Federal Aviation Administration

14 CFR Part 71

[Docket No. FAA-2005-20700; Airspace Docket No. 04-AWA-8]

RIN 2120-AA66

Proposed Establishment of Class C Airspace and Revocation of Class D Airspace, Orlando Sanford International Airport, FL; and Proposed Modification of the Orlando International Airport Class B Airspace Area, FL

AGENCY: Federal Aviation Administration (FAA), DOT.

ACTION: Notice of proposed rulemaking (NPRM).

SUMMARY: This action proposes to establish Class C airspace at the Orlando Sanford International Airport (SFB), FL; revoke the existing Sanford, FL, Class D airspace area; and modify the existing Orlando International Airport (MCO), FL, Class B airspace area. The FAA is proposing this action to improve the flow of air traffic, enhance safety, and reduce the potential for midair collision in the Orlando, FL, terminal area.

DATES: Comments must be received on or before October 7, 2005.

ADDRESSES: Send comments on this proposal to the Docket Management System, U.S. Department of Transportation, Room Plaza 401, 400 Seventh Street, SW., Washington, DC 20590-0001. You must identify FAA Docket No. FAA-2005-20700 and Airspace Docket No. 04-AWA-8, at the beginning of your comments. You may also submit comments through the Internet at http://dms.dot.gov.

FOR FURTHER INFORMATION CONTACT: Paul Gallant, Airspace and Rules, Office of System Operations and Safety, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2005-20700 and Airspace Docket No. 04-AWA-8) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2005-20700 and Airspace Docket No. 04-AWA-8.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 1701 Columbia Avenue College Park, GA 30337.

Persons interested in being placed on a mailing list for future NPRM's should contact the FAA's Office of Rulemaking, (202) 267-9677, for a copy of Advisory Circular No. 11-2A, Notice of Proposed Rulemaking Distribution System, which describes the application procedure.

Background

Currently, the Sanford Airport Traffic Control Tower (ATCT) provides air traffic control (ATC) service to a varied mix of air carrier and other civil aircraft, including a dense volume of training traffic from the numerous flight schools located in the central Florida area. With the current Class D airspace configuration, the Sanford tower controller is required to take initial calls from inbound aircraft entering the traffic pattern and work departures out of the Class D airspace area. These tasks divert the controller's attention away from the busy runway operation. Consequently, delays and frequency congestion are problems, and runway incursions have been a concern at Sanford.

In addition, Sanford air carrier arrivals currently enter and leave the Orlando International Airport Class B airspace area twice before entering the Sanford Class D airspace area. During this transition, encounters with unknown aircraft are common, resulting in vectors off course, traffic alert and collision advance system (TCAS) alerts, and/or Near Midair Collision Reports. Further, the Sanford instrument landing system (ILS) glideslopes to runways 9L and 27R are both outside the current Orlando International Class B and Sanford Class D airspace areas until they reach a 4-mile final.

The number of passenger enplanements at Sanford have increased above 600,000. This exceeds the FAA threshold criteria of 250,000 enplanements for Class C airspace area candidacy. Based on this, in addition to the above mentioned problem areas, the projected growth of traffic at Sanford, and the need to enhance safety and reduce the potential for midair collisions in the Orlando terminal area, this proposal to establish the Sanford Class C airspace area was developed. A Class C airspace area at Sanford would keep instrument flight rules (IFR) aircraft arriving at Sanford in controlled airspace thus reducing traffic conflicts. In addition, the Sanford ATCT's workload would be reduced since the Orlando International Airport's Terminal Radar Approach Control (TRACON) would take over arrival sequencing responsibilities to the Sanford runway and would work all Sanford departures out of the proposed Class C airspace area. This would reduce Sanford Tower frequency congestion and enable the tower controller to focus on runway operations thereby increasing safety and efficiency.

FAA policy requires that, before action is initiated to establish Class C airspace, nonrulemaking alternatives that provide for an acceptable level of safety must be implemented. In compliance with that policy, a number of safety measures were implemented at Sanford and in the Orlando International Airport terminal area. Some of the safety measures that were implemented include: Sanford ATCT received Digital Bright Radar Indicator Tower Equipment radar in 1997; Operation Rain Check, a pilot-controller forum, is held yearly; controller groups attending local user meetings to discuss safety; Orlando TRACON established a procedure to keep large arriving aircraft at higher altitudes on downwind legs to avoid slower traffic; safety meetings with flight school operators resulted in preferred routings for COMAIR (now known as Delta Connection Academy) departures; standard visual flight rules (VFR) arrival areas were set up for flight school operations; Orlando Traffic Management implemented voluntary flow controls for flight school operations in the Orlando area; and introduced local use call signs and standard climb-out procedures for flight school aircraft. Although these procedures have enhanced safety at Sanford, their effectiveness is based on current traffic levels with little room to accommodate future growth. If established, the proposed Sanford Class C airspace area would replace the current Sanford Class D airspace area.

In 1990, the FAA issued a final rule establishing the Orlando Terminal Control Area (TCA) at Orlando International Airport (55 FR 9082). In 1993, the term “TCA” was replaced by “Class B airspace area” as a result of the Airspace Reclassification Final Rule (56 FR 65638). The Orlando Class B airspace was last modified in 1999 to adjust several areas within the existing lateral boundaries of the Class B airspace (64 FR 42585).

In 2004, a fourth runway (17L/35R) was commissioned at Orlando International Airport. As a result, the airport reference point (ARP) was shifted eastward affecting the published center point for the Class B airspace area. In addition, there is a need to further modify several areas within the Orlando International Airport Class B airspace to accommodate the proposed Sanford Class C airspace and to provide additional Class B airspace to ensure the containment of Orlando International Airport arrivals and departures. Operational experience with departures climbing off Orlando International to the west has shown areas of airspace in the Orlando terminal area that need to be brought into the Class B airspace area. Also, experience working air traffic north of Orlando Executive Airport, and near Sanford International Airport at low altitude, has shown that Class B airspace is not needed in those areas to support Orlando International Airport operations and that airspace can be released back to users. The proposed Orlando Class B airspace modifications would address these matters.

Pre-NPRM Public Input

In 2002, the FAA initiated action to form an ad hoc committee to develop recommendations for designing a proposed Class C airspace at Sanford International Airport and for modifications to the Orlando Class B airspace. Participants in the committee included representatives from Sanford International, Orlando Executive, Kissimmee Gateway and Cedar Knoll Flying Ranch airports, AOPA, local Fixed Base Operators, and flight schools. Three ad hoc committee meetings were held. The first meeting was held at Sanford on January 14, 2003; the second meeting was held on February 25, 2003, at Kissimmee Gateway Airport (ISM); and the third meeting was held at Orlando Executive Airport on March 23, 2003.

As a result of the meetings, several operational procedures were developed and airspace modifications were incorporated into the proposed design. The Sanford Class C northern 10 nautical mile (NM) circle was changed to align with the current Orlando Class B airspace boundary. The proposed Class C airspace was modified to provide a cutout for Cedar Knoll Flying Ranch Airport (01FL). A draft letter of agreement was formulated to establish procedures and sterile routings out of the proposed Class C airspace, enabling VFR departures to stay with Sanford ATCT, if desired, and terminate ATC service at the 5-mile Class C airspace ring. Provisions were established to issue VFR codes to Orlando Executive Airport users on the ground. Finally, a VFR flyway east of Sanford International Airport below 3,000 feet outside the proposed Class C airspace was established.

In addition, as announced in the Federal Register (68 FR 53925), informal airspace meetings were held on November 6, 2003, at the Sanford International Airport, Terminal A, Vigilante Room, Sanford, FL; and November 7, 2003, at the Orlando Airport Marriott Hotel, Orlando, FL. These meetings provided interested airspace users with an opportunity to present their views and offer suggestions regarding the planned establishment of the Sanford Class C airspace and modification of the Orlando Class B airspace. All comments received as a result of the informal airspace meetings, along with the recommendations made by the ad hoc committee, were considered in developing this proposal.

Analysis of Comments

One commenter was concerned that the Sanford Class C airspace would result in the loss of an aerobatic practice box at Sanford. The FAA assures users that the aerobatic box would not change if the Sanford Class C airspace is implemented.

Four commenters questioned whether ATC staffing levels were adequate at the Orlando TRACON and the Sanford ATCT to handle the additional Class C airspace workload. One commenter stated that staffing resources need further analysis. The FAA has determined that no additional staffing is required to support both the implementation of the Sanford Class C airspace and the modification of the Orlando Class B airspace.

Three commenters stated that the planned runway extension and installation of a parallel ILS at Sanford should be completed prior to implementation of a Class C airspace area. The FAA does not agree. Sanford has several construction projects scheduled during the next three years. During construction, runway closures at Sanford will compress traffic to the open runways reducing airport capacity and contributing to delays. During runway closure periods, the Sanford ATCT controller will need to devote maximum focus on the open runways. Under the current Class D airspace configuration, the Sanford ATCT controller responds to initial call-ups from VFR inbound traffic, which occupies much of the controller's attention. With the proposed Class C airspace configuration, Sanford inbounds would initially call Orlando TRACON, thus enabling the Sanford ATCT controller to focus more attention on runway operations, reducing delays and increasing the level of runway safety. Therefore, the FAA believes that the proposed Class C airspace is needed in the interest of both safety and operational efficiency.

One commenter contended that if the Class C airspace area is implemented, there should be a single, unified ATCT and TRACON at Sanford airport. The FAA does not agree. Orlando TRACON is fully capable of efficiently managing Sanford operations from its current location. In fact, many large and complex operations are worked from remote TRACONs such as Atlanta, New York, Baltimore-Washington, DC, and Southern California.

One commenter wrote that the local users were not adequately consulted during the development of the proposed Sanford Class C airspace establishment and Orlando Class B airspace modification. The FAA does not agree. An ad hoc committee was formed to develop recommendations to the FAA regarding the proposed design of the Class C airspace. Three ad hoc user meetings were held to solicit local input on the proposal. A number of issues were identified at these meetings and several recommendations have been incorporated into this proposal. In addition, as announced in the Federal Register (68 FR 53925, September 15, 2003), the FAA held Informal Airspace Meetings in the local area on November 6 and November 7, 2003 to inform users of the planned airspace changes and to gather facts and information relevant to the proposed airspace action. FAA representatives have also attended monthly user meetings at Orlando Executive Airport and Sanford International Airport and provided briefings on the Class C and Class B proposals. An internet link for user comments is advertised on the Orlando International Airport ATCT web page. Finally, this NPRM provides users with a 60-day period to submit comments or recommendations on the proposal. All comments received will be fully considered before the FAA makes its final determination on this proposal. The proposal may be changed in light of those comments.

Four commenters indicated that the Sanford Class C airspace area would have an adverse economic impact on operations at Sanford. The cost of these operations would rise significantly because Class C airspace would result in increased air traffic delays both on the ground and in the air. The FAA does not agree. The Class C airspace area is expected to reduce Sanford delays. Current traffic routings and proposed Class C routings have been compared and it was found that the Class C airspace area would have minimal negative impact on users. Procedures for the proposed Class C airspace operation would allow Sanford users to continue flying as much as they do today. A minimal increase in flying distance (5 miles further west or east of Sanford) may be required for pilots transiting the area outside the proposed Class C and Class B airspace areas. Since Sanford International Airport already lies within the Orlando Class B airspace Mode C Veil, no additional aircraft equipment would be required as a result of the proposed airspace changes. Notwithstanding, the FAA is soliciting comments regarding possible economic impacts from this proposal.

Two commenters stated that alternative airspace modifications should be evaluated before implementing Class C airspace. These commenters suggested that either the existing Sanford Class D airspace be extended outward beyond the Sanford final approach fixes, or the existing Orlando Class B airspace area be lowered to protect the Sanford final approach fixes, if needed. The FAA examined these alternatives and determined that they would not be suitable in this case. Class B airspace is designed to contain IFR operations at the primary airport (in this case, Orlando International). FAA Class B airspace design criteria requires that airspace over a satellite airport be excluded from the Class B area if it is not required for primary airport IFR operations. Expanding the MCO Class B airspace area over SFB as suggested would be overly restrictive for users. Extending the SFB Class D airspace beyond the final approach fixes would not resolve the SFB ATCT workload and frequency congestion issues discussed above.

Two commenters expressed concerns that radio frequency congestion could result from the implementation of Class C airspace and that the FAA should ensure that the Orlando TRACON has additional frequencies available to handle the proposed Class C traffic volume. The FAA believes that frequency congestion will not be an issue. Orlando TRACON recently added another control sector and frequency, covering the Sanford area, to reduce radio frequency congestion and prepare Orlando TRACON for the additional traffic volume. With the Class C airspace area the Orlando TRACON would take over responsibility for sequencing Sanford arrivals and would work all departures out of the proposed airspace. As a result, the Sanford ATCT local control frequency congestion would be reduced. Additionally, the Sanford ATCT clearance delivery position will be open during all busy periods, reducing congestion on the Sanford ATCT ground control frequency.

Several commenters stated that, if the Sanford Class C airspace area is established, the current practice of issuing transponder codes on the ground for VFR aircraft at Orlando Executive Airport should be continued.

The FAA agrees. Procedures are now in place to issue codes, upon request, to VFR pilots on a permanent basis.

Four commenters raised various issues regarding the airspace design reflected in the proposal. Two commenters believed that an overall evaluation of the Orlando terminal area airspace should take place. Another commenter stated that the east-west VFR corridor between Orlando Executive Airport and Sanford International Airport creates compression and puts aircraft near tall towers and practice areas. This commenter suggested that VFR waypoints be considered to assist pilots circumnavigating the complex Orlando terminal area and to identify entry and exit points on VFR corridors. The commenter also stated that there may be a need to redefine the areas within the Orlando TRACON's airspace to minimize frequency hand-offs.

Regarding an evaluation of the Orlando area airspace, such a review has been conducted in association with this proposal. The proposed design also reflects modifications made to accommodate user requests. Additionally, FAA directives require that Class B and Class C airspace be re-evaluated every two years to determine if any modifications should be made. Regarding concerns about the east-west corridor, located between the Orlando Executive Airport and Sanford, this proposal would widen the corridor (with its 2,000 feet mean sea level (MSL)) ceiling by approximately 3 NM. This would increase the amount of airspace available for VFR aircraft to transit while remaining outside of Class B and Class C airspace. The FAA agrees with the suggestion for additional VFR waypoints and these will be developed for the area. Regarding the issue of frequency changes, Orlando TRACON is developing procedures and designing its airspace sectors to minimize the need for frequency changes.

Several commenters questioned the validity of Sanford's candidacy for Class C airspace. One commenter wrote that Sanford does not have enough passenger carrying flights to qualify. Another wrote that General Aviation makes up the large majority of operations at Sanford and those users oppose the Class C airspace area. This commenter also believed that the Near Midair Collision (NMAC) and Traffic Alert and Collision Avoidance System Resolution Advisory (RA) data utilized in the study were not valid. A third commenter said that traffic count figures should be re-evaluated based on today's trends.

The FAA does not agree. For an airport to be considered as a candidate for Class C airspace, it must be served by an operational airport traffic control tower and a radar approach control. In addition, the airport must meet one of the following: (a) An annual instrument operations count of 75,000 at the primary airport; (b) an annual instrument operations count of 100,000 at the primary and secondary airports in the terminal area hub; or (c) an annual count of 250,000 enplaned passengers at the primary airport. Sanford qualifies as a Class C candidate based on its enplaned passenger count. In calendar year 2003 (the latest year for which validated counts are available), Sanford enplanements totaled 619,894; well above the candidacy criteria. Regarding NMAC and RA data, the reports cited in the staff study were submitted officially and met the required criteria. It should be noted that such information is but one of many factors that are considered when conducting an analysis of a Class C airspace candidate airport. A review of current traffic counts and trends at Sanford indicate steady growth.

One commenter stated that the proposed Sanford Class C airspace area would have a significant and potentially adverse effect on Orlando Executive Airport; therefore, it should only be considered if the best interest of safety requires it. The commenter further stated that, if Class C airspace is designated at Sanford, Orlando Executive Airport should also have a Class C airspace area. Another commenter wrote that the Orlando Executive Airport has a greater need for a Class C airspace area than Sanford.

The FAA does not believe that the Sanford Class C airspace would result in delays in the Orlando Executive Airport traffic. The proposed Sanford Class C airspace would not degrade ATC services provided to the users of the Orlando Executive Airport. The airspace classification at the Orlando Executive Airport is being evaluated by the FAA as a separate issue from this proposed rulemaking action.

The Proposal

The FAA is proposing an amendment to Title 14 Code of Federal Regulations (14 CFR) part 71 to establish Class C airspace and revoke the existing Class D airspace at Sanford International Airport, FL. In addition, the FAA is proposing to modify the Orlando International Airport Class B airspace to accommodate the Sanford Class C airspace; update the Orlando International Airport ARP coordinates in the Class B airspace legal description; provide additional Class B airspace to accommodate the new runway at Orlando International; and ensure that Orlando International arrival and departure traffic remains within Class B airspace. The specifics of this proposed action (depicted on the attached chart) are discussed in the following paragraphs.

Proposed Orlando Sanford International Airport Class C Airspace

The proposed Sanford Class C airspace area would be described as follows:

That airspace extending upward from the surface to but not including 3,000 feet MSL within a 5-mile radius of the Sanford International Airport (SFB), excluding that airspace from the surface to but not including 700 feet MSL in the vicinity of Cedar Knoll Flying Ranch Airport within the area beginning at lat.28°50′00″ N., long. 81°10′00″ W., thence clockwise along the SFB 5-mile radius arc to lat. 28°43′20″ N., long. 81°10′00″ W., thence north to the point of beginning; and that airspace extending upward from 1,300 feet MSL to but not including 3,000 feet MSL within the area beginning northeast of the primary airport at the intersection of the SFB 10-mile radius arc and lat. 28°53′00″ N., then clockwise along the SFB 10-mile radius arc to lat. 28°41′36″ N., then west along lat. 28°41′36″ N. to the intersection of the SFB 10-mile radius arc, then clockwise along the SFB 10-mile radius arc to lat. 28°53′00″ N., then east along lat. 28°53′00″ N., to the point of beginning.

The SFB Class C airspace area would be effective during times when the Orlando Sanford International ATCT is in operation. These times would be published in the Airport/Facility Directory.

If the Sanford Class C airspace is established, it would replace the existing Sanford Class D airspace area, which would be revoked.

Orlando International Airport Class B Airspace

The FAA is proposing to modify several areas within the Orlando Class B airspace to accommodate the proposed Sanford Class C airspace area; reflect the adjustment of the Orlando International Airport ARP as a result of the commissioning of the fourth runway at Orlando International; and provide additional Class B airspace to accommodate the new runway and to ensure that Orlando International Airport arrivals and departures are contained within Class B airspace. The existing outer boundaries of the Orlando Class B airspace area would remain unchanged by these modifications.

The following describes the proposed revisions to the Orlando Class B airspace area:

Area A. Area A would be recentered on lat. 28°25′46″ N., long. 81°18′32″ W. This represents a shift of Area A slightly to the east to recenter the area on the revised Orlando International Aiport ARP, which was adjusted due to the addition of the fourth runway at Orlando International.

Area B. The eastern boundary of Area B would be shifted approximately 1 NM east to long. 81°10′00″ W. to accommodate the new Orlando International Airport runway.

Area C. The section of Area C in the vicinity of Sanford International Airport would be removed and replaced by the Sanford Class C airspace area up to but not including 3,000 feet MSL, and by Area E from 3,000 feet MSL up to and including 10,000 feet MSL. Area C in the vicinity of Orlando Executive Airport would be reduced in size. The airspace removed from Area C to the west, north, and northeast of Orlando Executive Airport would be incorporated into Area D with its higher Class B airspace floor of 2,000 feet MSL. This change would increase the amount of airspace available to VFR aircraft allowing them to utilize that area below 2,000 feet and remain outside of Class B airspace. Also, the eastern boundary of the Area C segments located to the north and south of Orlando International Airport would be modified by moving the eastern boundary one degree east to long. 81°10′00″ W. to accommodate the new runway.

Area D. Area D would be expanded in size in the vicinity of Orlando Executive Airport by incorporating the airspace removed from Area C, as described above. This change would raise the floor of Class B airspace in the affected area from 1,600 feet MSL to 2,000 feet MSL, providing additional VFR flyway airspace between Sanford International Airport and Orlando Executive Airport while still protecting Orlando International Airport arrivals. Also, the eastern boundary of Area D would be moved eastward to long. 81°10′00″ W. to accommodate the new runway at Orlando International Airport.

Area E. The boundary of Area E to the east of Olando International, currently defined by long. 81°11′00″ W., would be moved eastward one degree to long. 81°10′00″ W. This modification accommodates the new Orlando International Airport runway. Additionally, Area E would be expanded in the vicinity of Sanford so that Area E would overlie the Sanford Class C airspace area and incorporate the airspace from 3,000 feet MSL up to and including 10,000 feet MSL over Sanford, that was formerly in Area C. Also, the southern boundary of Area E, located to the south of Sanford, would be moved further south by approximately 2.5 NM to align it with the southern boundary of the Sanford Class C airspace area, along lat. 28°41′36″ N.

Area F. That airspace described as Area F in the existing Orlando Class B airspace area would be renamed “Area G.” A new Area F would be inserted to the west of Orlando International, adjacent to, and west of, Area D and Area E. This new Area F would consist of that airspace located between long, 81°27′30″ W. and long. 81°32′00″ W., and bounded by the ORL VORTAC 30-mile radius on the south, and by lat. 28°53′00″ N., on the north. The floor of the new Area F would be set at 4,000 feet MSL instead of the 6,000 feet MSL floor in the existing Area F. The lower floor provided by the new Area F would ensure that departures climbing westbound off MCO and arrivals on downwind leg for landing at Orlando International remain within Class B airspace.

Area G. The remaining sections of the existing Area F would be renamed Area G as a result of the addition of a new Area F, described above.

Implementation of the proposed Sanford Class C airspace area and the modifications to the Orlando Class B airspace area would enhance the safe and efficient use of airspace and reduce the potential for midair collision in the Orlando terminal area.

Regulatory Evaluation Summary

Changes to Federal Regulations must undergo several economic analyses. First, Executive Order 12866 directs that each Federal agency shall propose or adopt a regulation only upon a reasoned determination that the benefits of the intended regulation justify its costs. Second, the Regulatory Flexibility Act requires agencies to analyze the economic effect of regulatory changes on small businesses and other small entities. Third, the Office of Management and Budget directs agencies to assess the effect of regulatory changes on international trade. In conducting these analyses, the FAA has determined that this proposed rule: (1) Would generate benefits that justify its minimal costs and is not a “significant regulatory action” as defined in the Executive Order; (2) is not significant as defined in the Department of Transportation's Regulatory Policies and Procedures; (3) would not have a significant impact on a substantial number of small entities; (4) would not constitute a barrier to international trade; and (5) would not contain any Federal intergovernmental or private sector mandate. These analyses are summarized here in the preamble, and the full Regulatory Evaluation is in the docket.

The FAA proposes to change the Orlando Class B and the Orlando Sanford Airport Class D airspace areas. The Orlando Class B airspace area modification would maintain the 10,000 feet mean sea level (MSL) airspace ceiling and redefine the lateral limits of several of the existing subareas to improve the management of air traffic operations in the Orlando terminal area. The Orlando Sanford Airport Class D airspace area upgrade to a Class C airspace area would lower the airspace area from 3,000 to 1,600 feet MSL and would include a radius of 4.4 NM from the Orlando Sanford Airport up to but not including 1,600 feet MSL.

The FAA has determined that the changes to the Orlando International Airport Class B and the Orlando Sanford International Airport Class D airspace areas would improve the operational efficiency while maintaining aviation safety in the terminal area. Also, clearer boundary definition and changes to lateral and vertical limits of some subareas would provide additional airspace for use by VFR aircraft transitioning to and from satellite airports. This proposal would impose only negligible costs on airspace users and could potentially reduce circumnavigation costs to some operators.

The proposed rule would result in negligible additional administrative costs to the FAA and no additional operational costs for personnel or equipment to the agency. Notices would be sent to pilots within a 100-mile radius of the Orlando International Airport at an estimated cost of $2,900.00 for postage. Printing of aeronautical charts which reflect the changes to the Class B and Class C airspace areas would be accomplished during a scheduled chart printing, and would result in no additional costs for plate modification and updating of charts. Furthermore, no staffing changes would be required to maintain the modified Class B airspace area and the upgraded Class D airspace area. Potential increase in FAA operations workload could be absorbed by current personnel and equipment.

In view of the negligible cost of compliance, enhanced aviation safety, and improved operational efficiency, the FAA has determined that the proposed rule would be cost-beneficial.

Initial Regulatory Flexibility Determination

The Regulatory Flexibility Act of 1980 establishes “as a principle of regulatory issuance that agencies shall endeavor, consistent with the objective of the rule and of applicable statutes, to fit regulatory and informational requirements to the scale of the business, organizations, and governmental jurisdictions subject to regulation.” To achieve that principal, the Act requires agencies to solicit and consider flexible regulatory proposals and to explain the rational for their actions. The Act covers a wide-range of small entities, including small businesses, not-for-profit organizations and small governmental jurisdictions.

Agencies must perform a review to determine whether a proposed or final rule will have a significant economic impact on a substantial number of small entities. If the determination is that it will, the agency must prepare a regulatory flexibility analysis (RFA) as described in the Act.

However, if an agency determines that a proposed or final rule is not expected to have a significant economic impact on a substantial number of small entities, section 605(b) of the 1980 act provides that the head of the agency may so certify and an RFA is not required. The certification must include a statement providing the factual basis for this determination, and the reasoning should be clear.

The FAA has determined that the proposed rule would have a de minimus impact on small entities. All commercial and general aviation operators who presently use the Orlando International Airport are equipped to operate within the modified Class B airspace area. As for aircraft that regularly fly through the Orlando Sanford Airport Class D airspace area, since the airport is situated within the established Orlando Mode C Veil, all aircraft should already have the necessary equipment to transition the modified Class B airspace area. Therefore, there would be no additional equipment cost to these entities.

Accordingly, pursuant to the Regulatory Flexibility Act, 5 U.S.C. 605(b), the Federal Aviation Administration certifies that this rule would not have a significant economic impact on a substantial number of small entities. The FAA solicits comments from affected entities with respect to this finding and determination.

International Trade Impact Assessment

Trade Impact Assessment

The Trade Agreement Act of 1979 prohibits Federal agencies from establishing any standards or engaging in related activities that create unnecessary obstacles to the foreign commerce of the United States. Legitimate domestic objectives, such as safety, are not considered unnecessary obstacles. The statute also requires consideration of international standards and, where appropriate, that they be the basis for U.S. standards. The FAA has assessed the potential effect of this (proposed/final) rule and determined that it would have only a domestic impact and therefore no affect on any trade-sensitive activity.

Unfunded Mandates Assessment

The Unfunded Mandates Reform Act of 1995 (the Act) is intended, among other things, to curb the practice of imposing unfunded Federal mandates on State, local, and tribal governments. Title II of the Act requires each Federal agency to prepare a written statement assessing the effects of any Federal mandate in a proposed or final agency rule that may result in an expenditure of $100 million or more (adjusted annually for inflation) in any one year by State, local, and tribal governments, in the aggregate, or by the private sector; such a mandate is deemed to be a “significant regulatory action.” The FAA currently uses an inflation-adjusted value of $120.7 million in lieu of $100 million.

This proposed rule does not contain such a mandate. The requirements of Title II do not apply.

Conclusion

In view of the minimal cost of compliance of the proposed rule, compared to the improvements to operational efficiency without reducing aviation safety, the FAA has determined that the proposed rule would be cost-beneficial.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the FAA Order 7400.9M, Airspace Designations and Reporting Points, dated August 30, 2004, and effective September 16, 2004, is amended as follows:

Paragraph 3000—Class B Airspace.

* * * * *

ASO FL B Orlando, FL [Revised]

Orlando International Airport (Primary Airport) (MCO)

(Lat. 28°25′46″ N., long. 81°18′32″ W.)

Orlando VORTAC (ORL)

(Lat. 28°32′34″ N., long. 81°20′06″ W.)

Boundaries

Area A—That airspace extending upward from the surface to and including 10,000 feet MSL within a 5 NM radius from the MCO.

Area B—That airspace extending upward from 900 feet MSL to and including 10,000 feet MSL beginning at a point of the intersection of State Road (S.R.) 423 (John Young Parkway SW of ORL VORTAC) and Interstate 4, thence northeast along Interstate 4 to the intersection of Interstate 4 and S.R. 441 (Orange Blossom Trail), thence direct to the intersection of Lake Underhill Road and Palmer Street, thence east along Lake Underhill Road to the intersection of Lake Underhill Road and the Central Florida Greenway (S.R. 417), thence direct to lat. 28°29′22″ N., long. 81°10′00″ W. (the Stanton Power Plant), thence south to the intersection of the ORL VORTAC 14-mile radius arc, thence clockwise along the ORL VORTAC 14-mile radius arc to the intersection of S.R. 423, thence north along S.R. 423 to the point of beginning.

Area C—That airspace extending upward from 1,600 feet MSL to and including 10,000 feet MSL beginning at a point of the intersection of Interstate 4 and the Orlando Executive Airport Class D airspace 4.2 mile radius arc (lat. 28°30′35″ N., long. 81°24′02″ W.), thence clockwise on the Orlando Executive Airport 4.2-mile radius to University Blvd., thence east on University Blvd. to the intersection of S.R. 434, thence east on lat. 28°35′50″ N. to long. 81°10′00″ W., thence south to lat. 28°29′22″ N., thence northwest direct to the intersection of Lake Underhill Road and Central Florida Greenway (S.R. 417), thence west along Lake Underhill Road to the intersection of Palmer Street, thence southwest to the point of beginning. Also, that airspace south of the primary airport extending upward from 1,600 feet MSL to and including 10,000 feet MSL beginning at the point of intersection of long. 81°24′06″ W., and the ORL VORTAC 14-mile radius arc, thence counterclockwise along the ORL VORTAC 14-mile radius arc to the intersection of long. 81°10′00″ W., thence south to the intersection of the ORL VORTAC 20-mile radius arc, thence clockwise along the ORL VORTAC 20-mile radius arc to long. 81°24′06″ W., thence north to the point of beginning.

Area D—That airspace extending upward from 2,000 feet MSL to and including 10,000 feet MSL beginning at a point of the intersection of Interstate 4 and long. 81°27′30″ W., thence north to lat. 28°41′36″ N., thence east to long. 81°10′00″ W., thence south to lat. 28°35′50″ N., thence west to the intersection of S.R. 434 and University Blvd., thence west on University Blvd. to the Orlando Executive Airport 4.2-mile radius arc, thence counterclockwise on the Orlando Executive Airport 4.2-mile radius arc to the intersection of Interstate 4, southwest of the ORL VORTAC, thence west on Interstate 4 to the intersection of S.R. 423, thence south along S.R. 423 to the intersection of the ORL VORTAC 14-mile radius arc, thence counterclockwise along the ORL VORTAC 14-mile radius arc to long. 81°24′06″ W., thence south to the intersection of the ORL VORTAC 20-mile radius arc, thence clockwise along the ORL VORTAC 20-mile radius arc to the intersection of long. 81°27′30″ W., thence north to the point of beginning.

Area E—That airspace extending upward from 3,000 feet MSL to and including 10,000 feet MSL beginning at a point of the intersection of lat. 28°41′36″ N., long. 81°27′30″ W., thence north to the intersection of lat. 28°53′00″ N., thence east to the intersection of the MCO Mode C Veil 30-NM radius arc, thence southeast along the MCO Mode C Veil 30-NM radius arc to the intersection of the power lines at lat. 28°50′20″ N., thence southeast along these power lines to lat. 28°41′36″ N., thence west to long. 81°05′09″ W., thence south along the Florida Power transmission lines to the intersection of Highway 50 at lat. 28°32′10″ N., long. 81°03′35″ W., thence south to the Bee Line Expressway at lat. 28°27′05″ N., long. 81°03′45″ W., thence west along the Bee Line Expressway to the intersection of lat. 28°27′00″ N., long. 81°04′40″ W., thence south to the intersection of the ORL VORTAC 30-mile radius arc, thence clockwise along the ORL VORTAC 30-mile radius arc to long. 81°27′30″ W., thence north on long. 81°27′30″ W., to the intersection of the ORL VORTAC 20-mile radius arc, thence counterclockwise along the ORL VORTAC 20-mile radius arc to the intersection of long. 81°10′00″ W., thence north to the intersection of lat. 28°41′36″ N., thence west to the point of beginning.

Area F—That airspace extending upward from 4,000 feet MSL to and including 10,000 feet MSL beginning south of the primary airport at the intersection of the ORL VORTAC 30-mile radius arc and long. 81°27′30″ W., thence clockwise along the ORL VORTAC 30-mile radius arc to long. 81°32′00″ W., thence north to lat. 28°53′00″ N., thence east to long. 81°27′30″ W., thence south to the point of beginning.

Area G—That airspace extending upward from 6,000 feet MSL to and including 10,000 feet MSL beginning south of the primary airport at the intersection of the ORL VORTAC 30-mile radius arc and long. 81°32′00″ W., thence clockwise on the ORL VORTAC 30-mile radius arc to the intersection of Highway 27, thence north along Highway 27 to the intersection of Highway 27 and long. 81°45′00″ W., thence north along long. 81°45′00″ W., to the intersection of the ORL VORTAC 24-mile radius arc, thence clockwise along the ORL VORTAC 24-mile radius arc to the intersection of lat. 28°53′00″ N., thence east to the intersection of long. 81°32′00″ W., thence south to the point of beginning. Also that airspace extending upward from 6,000 feet MSL to and including 10,000 feet MSL beginning at the Florida Power transmission lines at lat. 28°41′36″ N., long. 81°05′20″ W., thence east along lat. 28°41′36″ N. to the Florida Power transmission lines at lat. 28°41′36″ N., long. 80°54′00″ W., thence southeast and south along these power lines to the intersection of Highway 50, thence south to the power lines at lat. 28°22′14″ N., long. 80°52′30″ W., thence southwest along these power lines to the intersection of long. 81°04′40″ W., thence north along long. 81°04′40″ W., to the intersection of the Bee Line Expressway at lat. 28°27′00″ N., long. 81°04′40″ W., thence east along the Bee Line Expressway to lat. 28°27′05″ N., long. 81°03′45″ W., thence north to the intersection of Highway 50 and the Florida Power transmission lines at lat. 28°32′10″ N., long. 81°03′45″ W., thence north along these power lines to the point of beginning.

* * * * *

Paragraph 4000 Class C Airspace.

* * * * *

ASO FL C Sanford, FL [New]

Orlando Sanford International Airport (Primary Airport)

(Lat. 28°46′40″ N., long. 81°14′15″ W.)

Cedar Knoll Flying Ranch Airport (Private Airport)

(Lat. 28°46′55″ N., long. 81°09′33″ W.)

That airspace extending upward from the surface to but not including 3,000 feet MSL within a 5-mile radius of the Orlando Sanford International Airport (SFB), excluding that airspace, from the surface to but not including 700 feet MSL in the vicinity of Cedar Knoll Airport, within the area beginning at lat. 28°50′00″ N., long. 81°10′00″ W., thence clockwise along the SFB 5-mile radius arc to lat. 28°43′20″ N., long. 81°10′00″ W., thence north to the point of beginning; and that airspace extending upward from 1,300 feet MSL to but not including 3,000 feet MSL within the area beginning northeast of the primary airport at the SFB 10-mile radius arc and lat. 28°53′00″ N., thence clockwise along the SFB 10-mile radius arc to lat 28°41′36″ N., thence west bound to the intersection of the SFB 10-mile radius arc, thence clockwise on the SFB 10-mile radius arc to lat. 28°53′00″ N., thence east to the point of beginning. This Class C airspace area is effective during the specific days and hours of operation of the Orlando Sanford International Airport Tower as established in advance by Notice to Airmen. The effective dates and times will thereafter be continuously published in the Airport/Facility Directory.

* * * * *

Paragraph 5000 Class D Airspace.

* * * * *

ASO FL D Sanford, FL [Remove]

* * * * *

Issued in Washington DC, on July 29, 2005.
Edith V. Parish,
Acting Manager, Airspace and Rules.

BILLING CODE 4910-13-P

[FR Doc. 05-15567 Filed 8-5-05; 8:45 am]

BILLING CODE 4910-13-C